DEPARTMENT OF STATE

[Public Notice 11113]

Notice of the Renaming of the International Telecommunication Advisory Committee (ITAC) as the International Digital Economy and Telecommunication (IDET) Advisory Committee and Renewal of Charter

SUMMARY: This notice announces that the International Telecommunication Advisory Committee has been renamed the International Digital Economy and Telecommunication (IDET) Advisory Committee and that its charter has been renewed. In accordance with the provisions of the Federal Advisory Committee Act and the general authority of the Secretary of State and the Department of State, the charter of the International Digital Economy and Telecommunication Advisory Committee has been renewed for two years.

The IDET consists of members of the telecommunications industry, including network operators and service providers, equipment vendors, members of academia; members of organizations, institutions, or entities with specific interests in digital economy, digital connectivity, economic aspects of emerging digital technologies, telecommunications, and communications and information policy matters; members of civil society; and officials of interested government agencies. The IDET provides views and advice to the Department of State on positions concerning international digital economy, telecommunications, and information policy matters. This advice has been a major factor in ensuring that the United States was well prepared to participate effectively in the international telecommunications and information policy arena, including the International Telecommunication Union (ITU), the Organization of American States Inter-American Telecommunication Commission (CITEL), the Organization for Economic Cooperation and Development (OECD), the Asia Pacific Economic Cooperation Forum Telecommunications and Information Working Group, the Group of Seven (G7), the Group of Twenty (G20) Digital Economy Task Force, and relevant standards setting bodies.

FOR FURTHER INFORMATION CONTACT: Please contact the Designated Federal Officer (DFO), Daniel Oates or Lynnette Jackson at IDET@state.gov.

Zachary A. Parker,
Director, Office of Directives Management, Department of State.

[FR Doc. 2020-15096 Filed 7-13-20; 8:45 am]

BILLING CODE 4710-07-P